NUCLEAR REGULATORY COMMISSION

[NRC-2015-0001]

Sunshine Act Meeting

DATE: February 16, 23, March 2, 9, 16, 23, 2015.

PLACE: Commissioners' Conference Room, 11555 Rockville Pike, Rockville, Maryland.

STATUS: Public and Closed.

Week of February 16, 2015

Wednesday, February 18, 2015

9:25 a.m. Affirmation Session (Public Meeting) (Tentative)

a. Entergy Nuclear Operations, Inc. (Indian Point Nuclear Generating Units 2 And 3)—Petitions for Review of LBP-13-13 and Associated Board Decision on Contention NYS-12C (Tentative).

b. Entergy Nuclear Operations, Inc. (Indian Point Nuclear Generating Units 2 And 3)—Petitions for Review of LBP-11-17 and LBP-10-13 on Contention NYS-35/36 (Tentative).

Wednesday, February 18, 2015

9:30 a.m. Briefing on NRC International Activities (Closed—Ex.9)

Wednesday, February 18, 2015

1:30 p.m. Briefing on Project Aim 2020 (Public Meeting); (Contact: Karen Fitch, 301-287-9237)

This meeting will be webcast live at the Web address— http://www.nrc.gov/.

Week of February 23, 2015—Tentative

Thursday, February 26, 2015

2:00 p.m. Briefing on NRC International Activities (Closed—Ex. 1 & 9)

Week of March 2, 2015—Tentative

Thursday, March 5, 2015

10:00 a.m. Meeting with Advisory Committee on Reactor Safeguards (Public Meeting); (Contact: Edwin Hackett, 301-415-7360)

This meeting will be webcast live at the Web address— http://www.nrc.gov/.

Week of March 9, 2015—Tentative

There are no meetings scheduled for the week of March 9, 2015.

Week of March 16, 2015—Tentative

There are no meetings scheduled for the week of March 16, 2015.

Week of March 23, 2015—Tentative

Thursday, March 26, 2015

9:30 a.m. Briefing on Security Issues (Closed—Ex. 1)

Thursday, March 26, 2015

1:30 p.m. Briefing on Security Issues (Closed—Ex. 1)

Friday, March 27, 2015

9:30 a.m. Briefing on Threat Environment Assessment (Closed—Ex. 1)

* * * * *

The schedule for Commission meetings is subject to change on short notice. For more information or to verify the status of meetings, contact Glenn Ellmers at 301-415-0442 or via email at Glenn.Ellmers@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., braille, large print), please notify Kimberly Meyer, NRC Disability Program Manager, at 301-287-0727, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: February 12, 2015.
Glenn Ellmers,
Policy Coordinator, Office of the Secretary.

[FR Doc. 2015-03251 Filed 2-12-15; 11:15 am]

BILLING CODE 7590-01-P